DEPARTMENT OF ENERGY

Federal Energy Regulatory Commission

Combined Notice of Filings #2

Take notice that the Commission received the following electric corporate filings:

Docket Numbers: EC14-73-000.

Applicants: El Segundo Energy Center LLC.

Description: Application For Approval Under Section 203 of the Federal Power Act and Request for Expedited Action of El Segundo Energy Center LLC.

Filed Date: 4/4/14.

Accession Number: 20140404-5230.

Comments Due: 5 p.m. ET 4/25/14.

Take notice that the Commission received the following exempt wholesale generator filings:

Docket Numbers: EG14-37-000.

Applicants: Broken Bow Wind II, LLC.

Description: Self-Certification of EWG of Broken Bow Wind II, LLC.

Filed Date: 4/4/14.

Accession Number: 20140404-5177.

Comments Due: 5 p.m. ET 4/25/14.

Take notice that the Commission received the following electric rate filings:

Docket Numbers: ER14-1056-001.

Applicants: Duke Energy Beckjord, LLC.

Description: Correction to MBR Tariff to be effective 3/1/2014.

Filed Date: 4/4/14.

Accession Number: 20140404-5148.

Comments Due: 5 p.m. ET 4/25/14.

Docket Numbers: ER14-1057-001.

Applicants: Duke Energy Commercial Asset Management, Inc.

Description: Correction to MBR Tariff to be effective 3/1/2014.

Filed Date: 4/4/14.

Accession Number: 20140404-5149.

Comments Due: 5 p.m. ET 4/25/14.

Docket Numbers: ER14-1059-001.

Applicants: Duke Energy Commercial Enterprises, Inc.

Description: Correction to MBR Tariff to be effective 3/1/2014.

Filed Date: 4/4/14.

Accession Number: 20140404-5146.

Comments Due: 5 p.m. ET 4/25/14.

Docket Numbers: ER14-1060-001.

Applicants: Duke Energy Conesville, LLC.

Description: Correction to MBR Tariff to be effective 3/1/2014.

Filed Date: 4/4/14.

Accession Number: 20140404-5150.

Comments Due: 5 p.m. ET 4/25/14.

Docket Numbers: ER14-1061-001.

Applicants: Duke Energy Dicks Creek, LLC.

Description: Correction to MBR Tariff to be effective 3/1/2014.

Filed Date: 4/4/14.

Accession Number: 20140404-5151.

Comments Due: 5 p.m. ET 4/25/14.

Docket Numbers: ER14-1065-001.

Applicants: Duke Energy Killen, LLC.

Description: Correction to MBR Tariff to be effective 3/1/2014.

Filed Date: 4/4/14.

Accession Number: 20140404-5153.

Comments Due: 5 p.m. ET 4/25/14.

Docket Numbers: ER14-1067-001.

Applicants: Duke Energy Miami Fort, LLC.

Description: Correction to MBR Tariff to be effective 3/1/2014.

Filed Date: 4/4/14.

Accession Number: 20140404-5155.

Comments Due: 5 p.m. ET 4/25/14.

Docket Numbers: ER14-1070-001.

Applicants: Duke Energy Stuart, LLC.

Description: Correction to MBR Tariff to be effective 3/1/2014.

Filed Date: 4/4/14.

Accession Number: 20140404-5156.

Comments Due: 5 p.m. ET 4/25/14.

Docket Numbers: ER14-1072-001.

Applicants: Duke Energy Zimmer, LLC.

Description: Correction to MBR Tariff to be effective 3/1/2014.

Filed Date: 4/4/14.

Accession Number: 20140404-5197.

Comments Due: 5 p.m. ET 4/25/14.

Docket Numbers: ER14-1074-001.

Applicants: North Allegheny Wind, LLC.

Description: Correction to MBR Tariff to be effective 3/1/2014.

Filed Date: 4/4/14.

Accession Number: 20140404-5220.

Comments Due: 5 p.m. ET 4/25/14.

Docket Numbers: ER14-1075-001.

Applicants: CinCap V, LLC.

Description: Correction to MBR Tariff to be effective 3/1/2014.

Filed Date: 4/4/14.

Accession Number: 20140404-5147.

Comments Due: 5 p.m. ET 4/25/14.

Docket Numbers: ER14-1655-000.

Applicants: Green Power Energy LLC.

Description: Petition for Waiver of Tariff Requirements and Request for Shortened Notice Period and Expedited Review of Green Power Energy LLC.

Filed Date: 4/3/14.

Accession Number: 20140403-5165.

Comments Due: 5 p.m. ET 4/17/14.

Docket Numbers: ER14-1661-000.

Applicants: MidAmerican Central California Transco, LLC.

Description: Application for Incentive Rates & TO Tariff to be effective 6/3/2014.

Filed Date: 4/4/14.

Accession Number: 20140404-5157.

Comments Due: 5 p.m. ET 4/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2014.
Nathaniel J. Davis, Sr.,
Deputy Secretary.

[FR Doc. 2014-08179 Filed 4-10-14; 8:45 am]

BILLING CODE 6717-01-P